DEPARTMENT OF COMMERCE

International Trade Administration

[C-570-913]

Certain New Pneumatic Off-the-Road Tires From the People's Republic of China: Rescission of Countervailing Duty Administrative Review

AGENCY: Import Administration, International Trade Administration, Department of Commerce.

SUMMARY: The Department of Commerce (the Department) is rescinding the administrative review of the countervailing duty order on certain new pneumatic off-the-road tires (OTR Tires) from the People's Republic of China (PRC) for the period January 1, 2009, through December 31, 2009, with respect to the one remaining respondent company: Tianjin United Tire & Rubber International Co., Ltd. (TUTRIC). This rescission is based on the timely withdrawal by TUTRIC on January 25, 2011, of its request for a review. Since TUTRIC was the only remaining respondent company subject to review, this notice also serves to rescind the entire administrative review.

DATES: Effective Date: February 11, 2011.

FOR FURTHER INFORMATION CONTACT: Emily Halle or Andrew Huston, AD/CVD Operations, Office 6, Import Administration, International Trade Administration, Department of Commerce, 14th Street and Constitution Avenue, NW., Washington, DC 20230; telephone: (202) 482-0176 or (202) 482-4261, respectively.

SUPPLEMENTARY INFORMATION:

Background

On September 1, 2010, the Department published a notice of opportunity to request an administrative review of the countervailing duty order on OTR Tires from the PRC. See Antidumping or Countervailing Duty Order, Finding, or Suspended Investigation; Opportunity To Request Administrative Review, 75 FR 53635 (September 1, 2010). TUTRIC timely requested an administrative review of the countervailing duty order on OTR Tires from the PRC for the period January 1, 2009, through December 31, 2009. In addition, the Department received timely requests from eight other parties: Shandong Huitong Tyre Co., Ltd.; Qingdao Hengda Tyres Co., Ltd.; Qingdao Sinorient International Ltd.; Qingdao Qizhou Rubber Co., Ltd.; Techking Tires Limited; Qingda Etyre International Trade Co., Ltd.; Wengdeng Sanfeng Tyre Co., Ltd.; and Guizhou Tyre Co., Ltd., along with its affiliates, Guizhou Advanced Rubber Co., Ltd., and Guizhou Tyre Import and Export Corporation (collectively, Guizhou Tyre). No other party requested a review of these parties. In accordance with section 751(a)(1) of the Tariff Act of 1930, as amended (the Act) and 19 CFR 351.221(c)(1)(i), the Department published a notice initiating an administrative review of the countervailing duty order. See Initiation of Antidumping and Countervailing Duty Administrative Reviews, 75 FR 66349, 66351 (October 28, 2010).

On November 30, 2010, the Department rescinded the review with respect to Guizhou Tyre, pursuant to a timely withdrawal of its request for review. See Certain New Pneumatic Off-the-Road Tires From the People's Republic of China: Partial Rescission of Countervailing Duty Administrative Review, 75 FR 74003 (November 30, 2010). On December 10, 2010, the Department rescinded the review with respect to: Shandong Huitong Tyre Co., Ltd.; Qingdao Hengda Tyres Co., Ltd.; Qingdao Sinorient International Ltd.; Qingdao Qizhou Rubber Co., Ltd.; Techking Tires Limited; Qingda Etyre International Trade Co., Ltd.; and Wengdeng Sanfeng Tyre Co., Ltd., pursuant to timely withdrawals of their requests for review. See Certain New Pneumatic Off-the-Road Tires From the People's Republic of China: Rescission, in Part, of Countervailing Duty Administrative Review, 75 FR 76956 (December 10, 2010).

Rescission of Countervailing Duty Administrative Review

The Department's regulations provide that the Department will rescind an administrative review if the party that requested the review withdraws its request for review within 90 days of the date of publication of the notice of initiation. See 19 CFR 351.213(d)(1). TUTRIC timely withdrew its request on January 25, 2011, within the 90-day deadline. Therefore, as no other party requested a review of TUTRIC, and as we have already rescinded the review of all other parties initially subject to this segment of the proceeding, in accordance with 19 CFR 351.213(d)(1), the Department is fully rescinding this administrative review of the countervailing duty order.

Assessment

Entries exported by TUTRIC are subject to the injunction issued by the U.S. Court of International Trade pursuant to ongoing litigation. Once the injunction is lifted, the Department will instruct U.S. Customs and Border Protection to assess countervailing duties on all appropriate entries. For TUTRIC, countervailing duties shall be assessed at rates equal to the cash deposit or bonding rate of the estimated countervailing duties required at the time of entry, or withdrawal from warehouse, for consumption, in accordance with 19 CFR 351.212(c)(1)(i).

Notification Regarding Administrative Protective Order

This notice serves as a final reminder to parties subject to administrative protective order (APO) of their responsibility concerning the disposition of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: February 7, 2011.
Christian Marsh,
Deputy Assistant Secretary for Antidumping and Countervailing Duty Operations.

[FR Doc. 2011-3132 Filed 2-10-11; 8:45 am]

BILLING CODE 3510-DS-P